DEPARTMENT OF AGRICULTURE

Food and Nutrition Service

Agency Information Collection Activities: Proposed Collection; Comment Request Generic Clearance To Conduct Formative Research

AGENCY: Food and Nutrition Service, USDA.

ACTION: Notice.

SUMMARY: In accordance with the Paperwork Reduction Act of 1995, this notice invites the general public and other interested parties to comment on a proposed information collection. This collection is an extension, without change, of a currently approved collection. This information collection will conduct research in support of FNS' goal of delivering science-based nutrition education to targeted audiences. From development through testing of materials and tools with the target audience, FNS plans to conduct data collections that involve formative research including focus groups, interviews (dyad, triad, telephone, etc.), surveys and Web-based collection tools.

DATES: Written comments must be received on or before December 28, 2009.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Judy F. Wilson, Senior Nutrition Advisor, Food and Nutrition Service, U.S. Department of Agriculture, 3101 Park Center Drive, Room 1012, Alexandria, VA 22302. Comments may also be faxed to the attention of Judy F. Wilson at (703) 305-2576 or e-mailed to judy.wilson@fns.usda.gov.

Comments will also be accepted through the Federal eRulemaking Portal. Go to http://www.regulations.gov and follow the online instructions for submitting comments electronically.

All written comments will be open for public inspection at the Office of the Food and Nutrition Service during regular business hours (8:30 a.m. to 5 p.m., Monday through Friday) at 3101 Park Center Drive, Alexandria, Virginia 22302, Room 1012.

All responses to this notice will be summarized and included in the request for Office of Management and Budget (OMB) approval. All comments will be a matter of public record.

FOR FURTHER INFORMATION CONTACT: Requests for additional information should be directed to Judy F. Wilson at (703) 305-2017.

SUPPLEMENTARY INFORMATION: Title: Generic Clearance to Conduct Formative Research for Development of Nutrition Education and Promotion Materials and Related Tools for FNS Population Groups.

OMB Number: 0584-0524.

Expiration Date: March 31, 2010.

Type of Request: Extension of previously approved information collection.

Abstract: This information collection is based on Section 19 of the Child Nutrition Act of 1966 (42 U.S.C. 1787), Section 5 of the Richard B. Russell National School Lunch Act (42 U.S.C. 1754) and Section 11(f) of the Food and Nutrition Act of 2008 (7 U.S.C. 2020). This request for approval of information collection is necessary to obtain input into the development of nutrition education interventions for population groups served by the U.S. Department of Agriculture, Food and Nutrition Service (USDA-FNS).

Diet has a significant impact on the health of citizens and is linked to four leading causes of disease, which can reduce the quality of life and cause premature death. While these diet-related problems affect all Americans, they have a greater impact on the disadvantaged populations served by many FNS programs. One of FNS' goals includes improving the nutrition of children and low-income families by providing access to program benefits and nutrition education. The FNS programs include Child Nutrition, Food Distribution, Food Stamp and Supplemental Foods Programs.

The basis of our approach rests on the philosophies that all health communications and social marketing activities must be science-based, theoretically grounded, audience-driven, and results-oriented. Secondly, consumer-based health communications require a focus on specific target audiences, encouraging positive behaviors in culturally relevant ways, unique benefits and supports for adopting the new behavior, insights into the most appropriate time and place to deliver messages, and striking the right tone to enhance attention and action to the message. Interventions need to be designed so that they can be delivered through different types of media and in a variety of formats for diverse audiences.

FNS develops a variety of resources to support nutrition education and promotion activities. These resources are designed to convey science-based, behavior-focused nutrition messages about healthy eating and physical activity to children and adults eligible to participate in FNS nutrition assistance programs and to motivate them to consume more healthful foods as defined by the Dietary Guidelines for Americans (DGAs). This includes education materials, messages, promotion tools and interventions for the diverse population served by the Federal nutrition programs including WIC, Team Nutrition, Food Distribution and other programs.

Obtaining formative input and feedback is fundamental to FNS' success in delivering science-based nutrition messages and reaching diverse segments of the population in ways that are meaningful and relevant. This includes conferring with the target audience, individuals providing service to the target audience, and key stakeholders on the communication strategies and interventions that will be developed and on the delivery approaches that will be used to reach consumers. The formative research and testing activities described will help in the development of effective education and promotion tools and communication strategies. Collection of this information will increase FNS' ability to formulate nutrition education interventions that resonate with the intended target population, in particular low-income families.

Formative research methods and information collection will include focus groups, interviews (dyad, triad, telephone, etc.), surveys and Web-based data collection. The data obtained will provide input regarding the potential use of materials and products during both the developmental and testing stages. In order to determine future nutrition education needs, tools and dissemination strategies, key informant interviews will be conducted. This task involves collecting a diverse array of information from a variety of groups including: People familiar with the target audiences; individuals delivering nutrition education interventions and projects; program providers at State and local levels; program participants and other relevant informants associated with FNS programs.

Findings from all data collection will be included in summary reports submitted to USDA-FNS. The reports will describe the data collection methods, findings, conclusions, implications, and recommendations for the development and effective dissemination of nutrition education materials and related tools for FNS population groups. There will be no specific quantitative analysis of data. No attempt will be made to generalize the findings to be nationally representative or statistically valid.

Respondents: Individual & Household: Recipients and those persons eligible for FNS nutrition assistance programs, State and local staff administering FNS programs, Business: FNS stakeholders and consumers, and other interested parties.

Estimated Number of Respondents: | 19,000
Focus Group Screeners | 3000
Interview Screeners/Surveys | 1400
Focus Groups | 1500
Intercept Interviews | 800
Dyad/Triad Interviews | 200
Telephone Interviews | 1500
Surveys | 800
Web-based Collections | 800
Confidentiality Agreements | 9000
Estimated Time per Response:
Focus Group Screeners | ¹ 10
Interview Screeners/Surveys | ¹10
Focus Groups | ¹ 120
Intercept Interviews | ¹ 30
Dyad/Triad Interviews | ¹ 60
Telephone Interviews | ¹ 15
Surveys | ¹ 30
Web-based Collections | ¹ 30
Confidentiality Agreement | ¹ 10
Estimated Total Annual Burden on Respondents:
Focus Group Screeners | ¹ 30,000
Interview Screeners/Surveys | ¹ 14,000
Focus Groups | ¹ 180,000
Intercept Interviews | ¹ 24,000
Dyad/Triad Interviews | ¹ 12,000
Telephone Interviews | ¹ 22,500
Survey Instruments | ¹ 24,000
Web-based Collections | ¹ 24,000
Confidentiality Agreement | ¹ 90,000
Total Estimated Burden | ¹ 420,500
¹ Minutes.

Public reporting burden for this collection of information is estimated to average 19,000 respondents with a total estimated burden of 420,500 minutes or 7,008 hours.

Dated: October 21, 2009.
Julia Paradis,
Administrator, Food and Nutrition Service.

[FR Doc. E9-26017 Filed 10-28-09; 8:45 am]

BILLING CODE 3410-30-P